DEPARTMENT OF VETERANS AFFAIRS

[OMB Control No. 2900-0376]

Agency Information Collection Activity Under OMB Review: (Agent Orange Registry Code Sheet; VA Form 10-9009)

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden; it includes the actual data collection instrument.

DATES: Comments must be submitted on or before January 23, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0376” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0376.”

SUPPLEMENTARY INFORMATION: Titles: Agent Orange Registry Code Sheet, VA Form 10-9009.

OMB Control Number: 2900-0376.

Type of Review: Reinstatement and Extension of a previously approved collection.

Abstract: VA employees obtain demographic data from existing records. The examining physician, Environmental Health (EH) Coordinator (formerly identified as the Agent Orange coordinator)/or other designated personnel obtain the remainder of the information during the Agent Orange registry physical examination process. The information obtained from the Veteran is entered directly onto an electronic VA Agent Orange Form 10-9009, Agent Orange Registry Worksheet (formerly identified as an Agent Orange Registry Code Sheet), via a secured Web site http://vaww.registries.aac.va.gov by VA personnel and transmitted directly to the Environmental Agents Service (EAS) Agent Orange Registry database located at the Austin Information Technology Center (AITC), Austin, TX. Edits are automatically accomplished at the time of entry. The EAS Registries Web site allows you to edit pretty much all the information that has been entered. Some VA facilities will enter the information into the EAS Registries Web site while the Veteran is sitting in front of them. Other facilities will have the Veteran and the examiner complete the Agent Orange Worksheet on paper form, and then later enter the worksheet data into the EAS Registries Web site. VHA Handbook 1302.01, dated 9/5/06 states: “AOR worksheets and dated follow-up letters must be scanned, or made electronic, and attached to an appropriately titled CPRS progress note.”

The registry provides a mechanism to catalogue prominent symptoms, reproductive health, and diagnoses and to communicate with Agent Orange Veterans. VA keeps Veterans informed on research findings or new compensation policies through periodic newsletters. The voluntary, self-selected nature of this registry makes it valuable for health surveillance; however, it is not designed or intended to be a research tool and therefore, the results cannot be generalized to represent all Agent Orange Veterans. The Federal Register Notice with a 60-day comment period soliciting comments on this collection of information was published on October 6, 2016, Vol. 81, pages 69571-69572.

Affected Public: Individuals or households.

Estimated Annual Burden: VA Form 10-9009—6,667 hours.

Estimated Average Burden per Respondent: 20 minutes.

Frequency of Response: Annually.

Estimated Annual Responses: 20,000.

By direction of the Secretary.
Cynthia Harvey-Pryor,
VA Clearance Officer, Office of Privacy and Records Management, Department of Veterans Affairs.

[FR Doc. 2016-30962 Filed 12-22-16; 8:45 am]

BILLING CODE 8320-01-P